NATIONAL CREDIT UNION ADMINISTRATION

Sunshine Act Meeting

Time and Date: 10 a.m., Thursday, December 19, 2002.

Place: Board Room, 7th Floor, Room 7047, 1775 Duke Street, Alexandria, VA 22314-3428.

Status: Open.

Matters To Be Considered: 1. Request for a Federal Credit Union to Expand its Community Charter.

2. Requests from Three (3) Federal Credit Unions to Convert to Community Charters.

3. Request from a Federal Credit Union to Add an Underserved Area to its Field of Membership.

4. Appeal from a Federal Credit Union of the Regional Director's Denial of a Field of Membership Expansion Request.

5. Proposed Rule: Part 703 of UCUA's Rules and Regulations, Investment and Deposit Activities.

6. Notice and Request for Comment on Corporate Federal Credit Union Bylaws.

7. National Credit Union Share Insurance Fund (NCUSI) Operating Level for 2003.

8. Community Development Revolving Loan Fund for Credit Unions: Notice of Applications for Participation and Interest Rate for Loans.

Recess: 11:15 a.m.

Time and Date: 11:30 a.m., Thursday, December 19, 2002.

Place: Board Room 7th Floor, Room 7047, 1775 Duke Street, Alexandria, VA 22314-3428.

Status: Closed.

Matters To Be Considered: 1. One (1) Insurance Appeal. Closed pursuant to Exemption (6).

2. Revisions to Delegations of Authority and Travel Manual. Closed pursuant to Exemptions (2) and (6).

FOR FURTHER INFORMATION CONTACT: Becky Baker, Secretary of the Board, Telephone: 703-518-6304.

Becky Baker,
Secretary of the Board.

[FR Doc. 02-31701 Filed 12-12-02; 2:16 pm]

BILLING CODE 7535--01-M